DEPARTMENT OF TRANSPORTATION

Federal Aviation Administration

14 CFR Part 39

[Docket No. FAA-2012-0528; Directorate Identifier 2011-SW-068-AD]

RIN 2120-AA64

Airworthiness Directives; Eurocopter Deutschland Helicopters

AGENCY: Federal Aviation Administration (FAA), DOT.

ACTION: Notice of proposed rulemaking (NPRM).

SUMMARY: We propose to adopt a new airworthiness directive (AD) for all Eurocopter Deutschland GmbH Model MBB-BK117 C-2 helicopters with certain Generator Control Units (GCU) installed. This proposed AD is prompted by reports of internal short circuits in certain GCUs. The proposed actions are intended to replace any affected GCUs to prevent a short circuit, which could result in a loss of electrical generating power, loss of systems required for continued safe flight and landing, and subsequent loss of control of the helicopter.

DATES: We must receive comments on this proposed AD by July 23, 2012.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket: You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed AD, contact American Eurocopter Corporation, 2701 N. Forum Drive, Grand Prairie, TX 75052, telephone (972) 641-0000 or (800) 232-0323, fax (972) 641-3775, or at http://www.eurocopter.com/techpub. You may review a copy of the referenced service information at the FAA, Office of the Regional Counsel, Southwest Region, 2601 Meacham Blvd., Room 663, Fort Worth, Texas 76137.

FOR FURTHER INFORMATION CONTACT: George Schwab, Aviation Safety Engineer, FAA, Rotorcraft Directorate, Safety Management Group, 2601 Meacham Blvd., Fort Worth, Texas 76137; telephone (817) 222-5114; email george.schwab@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

The European Aviation Safety Agency (EASA), which is the Technical Agent for the Member States of the European Union, has issued AD No.: 2011-0149R1, dated September 30, 2011 (AD 2011-0149R1), to correct an unsafe condition for the Eurocopter Deutschland GmbH Model MBB-BK117 C-2 helicopters. EASA advises that during an acceptance test procedure of a GCU, a short circuit caused by a manufacturing discrepancy occurred within the unit. According to EASA, all part number (P/N) 51530-021EI “no MOD,” “MOD A,” and “MOD B” GCUs are potentially affected by this discrepancy. To address this potential unsafe condition, EASA issued AD No.: 2011-0149, dated August 19, 2011, to identify and replace each affected GCU with an airworthy GCU. Since issuing that AD, Eurocopter Deutschland GmbH demonstrated that helicopters modified in accordance with Eurocopter Deutschland GmbH Alert Service Bulletin (ASB) MBB BK117 C-2-24A-008, Revision 1, dated August 29, 2011, have a much lower risk of losing electrical generating power from a faulty generator control unit. EASA then revised AD No.: 2011-0149 and issued AD 2011-0149R1 to allow an extended compliance time for helicopters modified in accordance with the Eurocopter Deutschland ASB.

FAA's Determination

These helicopters have been approved by the aviation authority of Germany and are approved for operation in the United States. Pursuant to our bilateral agreement with Germany, EASA, its technical representative, has notified us of the unsafe condition described in its AD. We are proposing this AD because we evaluated all known relevant information and determined that an unsafe condition is likely to exist or develop on other products of the same type design.

Related Service Information

Eurocopter Deutschland GmbH has issued ASB MBB-BK117 C-2-24A-010 Revision 2, dated September 14, 2011, which specifies removing any GCU with P/N 51530-021EI with no modification (MOD), MOD A, or MOD B, and replacing it with a GCU P/N 51530-021EI MOD C or later MOD. EASA classified this ASB as mandatory and issued AD 2011-0149R1 to ensure the continued airworthiness of these helicopters.

Proposed AD Requirements

This proposed AD would require replacement of the GCU with an airworthy GCU.

Differences Between This Proposed AD and the EASA AD

The EASA AD allows a compliance time of 500 flight hours for helicopters previously modified by Eurocopter Deutschland GmbH ASB MBB BK117 C-2-24A-008 Revision 1, while the proposed AD requires compliance within the next 300 hours time-in-service for all affected helicopters.

Costs of Compliance

We estimate that this proposed AD would affect 104 helicopters of U.S. Registry. We estimate that operators may incur the following costs in order to comply with this AD. Replacing a GCU with an airworthy GCU will require about 2 work hours at an average labor rate of $85 per hour. Required parts will cost $7,130, for a total cost per helicopter of $7,300.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new Airworthiness Directive (AD):

Eurocopter Deutschland GmbH Helicopters: Docket No. FAA-2012-0528; Directorate Identifier 2011-SW-068-AD.

(a) Applicability

This AD applies to Model MBB-BK117 C-2 helicopters with a generator control unit (GCU), part number (P/N) 51530-021EI with no modification (MOD), MOD A, or MOD B installed, certificated in any category.

(b) Unsafe Condition

This AD defines the unsafe condition as an internal short circuit in certain GCUs. This condition could result in loss of electrical generating power, resulting in the loss of systems required for continued safe flight and landing, and subsequent loss of control of the helicopter.

(c) Compliance

You are responsible for performing each action required by this AD within the specified compliance time unless it has already been accomplished prior to that time.

(d) Required Actions

(1) Within the next 300 hours time-in-service or 6 months, whichever occurs first, replace all GCUs with no MOD, MOD A, or MOD B with an airworthy GCU.

(2) Do not install a GCU P/N 51530-021-EI with no MOD, MOD A, or MOD B on any helicopter.

(e) Alternative Methods of Compliance (AMOC)

(1) The Manager, Safety Management Group, FAA, may approve AMOCs for this AD. Send your proposal to: George Schwab, Aviation Safety Engineer, FAA, Rotorcraft Directorate, Safety Management Group, 2601 Meacham Blvd., Fort Worth, Texas 76137; telephone (817) 222-5114; email george.schwab@faa.gov.

(2) For operations conducted under 14 CFR part 119 operating certificate or under 14 CFR part 91, subpart K, we suggest that you notify your principal inspector, or lacking a principal inspector, the manager of the local flight standards district office or certificate holding district office before operating any aircraft complying with this AD through an AMOC.

(f) Additional Information

(1) Eurocopter Deutschland GmbH Alert Service Bulletin MBB-BK117 C-2-24A-010 Revision 2, dated September 14, 2011, which is not incorporated by reference, contains additional information about the subject of this AD.

(2) For service information identified in this AD, contact American Eurocopter Corporation, 2701 N. Forum Drive, Grand Prairie, TX 75052, telephone (972) 641-0000 or (800) 232-0323, fax (972) 641-3775, or at http://www.eurocopter.com/techpub. You may review a copy of the service information at the FAA, Office of the Regional Counsel, Southwest Region, 2601 Meacham Blvd., Room 663, Fort Worth, Texas 76137.

(3) The subject of this AD is addressed in European Aviation Safety Agency (EASA) AD No.: 2011-0149R1, dated September 30, 2011.

(g) Subject

Joint Aircraft Service Component (JASC) Code: 2436: DC Generator Control Unit.

Issued in Fort Worth, Texas, on May 10, 2012.
Kim Smith,
Manager, Rotorcraft Directorate, Aircraft Certification Service.

[FR Doc. 2012-12349 Filed 5-21-12; 8:45 am]

BILLING CODE 4910-13-P